DEPARTMENT OF COMMERCE

International Trade Administration

Export Trade Certificate of Review

ACTION: Notice of Issuance of an Export Trade Certificate of Review, Application No. 03-00005.

SUMMARY: The Department of Commerce has issued an Export Trade Certificate of Review to American Commodity Company, LLC (“ACC”). This notice summarizes the conduct for which certification has been granted.

FOR FURTHER INFORMATION CONTACT: Jeffrey C. Anspacher, Director, Office of Export Trading Company Affairs, International Trade Administration, by telephone at (202) 482-5131 (this is not a toll-free number), or by e-mail at oetca@ita.doc.gov.

SUPPLEMENTARY INFORMATION: Title III of the Export Trading Company Act of l982 (15 U.S.C. 4001-21) authorizes the Secretary of Commerce to issue Export Trade Certificates of Review. The regulations implementing Title III are found at 15 CFR part 325 (2003).

The Office of Export Trading Company Affairs (“OETCA”) is issuing this notice pursuant to 15 CFR 325.6(b), which requires the Department of Commerce to publish a summary of the Certification in the Federal Register. Under section 305 (a) of the Act and 15 CFR 325.ll(a), any person aggrieved by the Secretary's determination may, within 30 days of the date of this notice, bring an action in any appropriate district court of the United States to set aside the determination on the ground that the determination is erroneous.

Description of Certified Conduct

Export Trade

1. Products

U.S. rice and rice products including: rough rice, brown rice, milled, undermilled or unpolished rice, coated rice, oiled rice, enriched rice, rice bran, rice polish, head rice, broken rice, secondhead rice, brewers rice, screenings, rice flour, and rice hulls.

2. Technology Rights

Technology Rights, including, but not limited to: patents, trademarks, service marks, copyrights, trade secrets and know-how that relate to the Products.

3. Export Trade Facilitation Services (as they relate to the Export of Products and Technology Rights)

Export Trade Facilitation Services, including, but not limited to: arranging and coordinating delivery of Product to port of export, arranging for inland and/or ocean transportation, allocating Product to vessel; arranging for storage space at port; arranging for warehousing, stevedoring, wharfage, handling, inspection, fumigation, quality control, financing, freight forwarding, insurance and documentation; reviewing letters of credit; invoicing foreign buyer; collecting payment; and arranging for payment of applicable brokerage fees and commissions.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

With respect to the sale of Products, licensing of Technology Rights, and provisions of the Export Trade Facilitation Services, under its proposed Export Trade Certificate of Review, the American Commodity Company, LLC may:

(a) Receive information on an individual basis from individual Suppliers regarding Product available for export and delivery schedules for the purpose of determining the availability of Products for purchase and export;

(b) Solicit offers from Suppliers to sell Product to ACC for a specific export opportunity;

(c) Obtain agreements from Suppliers to offer/sell Product through the certified activities of ACC;

(d) Establish prices, quantities and terms for sales of Product in export markets;

(e) Solicit orders from potential foreign distributors and purchasers of Product for delivery to export markets;

(f) Submit offers to potential distributors and purchasers for sale of Product for delivery to export markets;

(g) Negotiate and enter into agreements for sale of Product in export markets;

(h) Enter into agreements to purchase Product from one or more Suppliers by which Suppliers may agree to sell exclusively to ACC for delivery in a particular export market or markets. ACC may agree to purchase exclusively from particular Supplier(s) for resale of Product in a particular export market or markets;

(i) Enter into agreements with one or more Export Trade Intermediaries or purchasers for their purchase of Product by which ACC may agree to deal exclusively with a given customer in the export market and/or that customer may agree to deal exclusively with ACC. Additionally, that customer may agree not to purchase from ACC's competitors unless authorized by the ACC to do so;

(j) Allocate sales of Product and/or distribute export orders among Suppliers on any basis ACC deems appropriate;

(k) Act as broker and/or operate as sub-contractor to suppliers and possibly take title to Product;

(l) Utilize applicable export assistance and incentive programs which are available to ACC within the government and trade sectors;

(m) Provide and/or arrange for the provision of Export Trade Facilitation Services;

(n) Use its discretion, in good faith, to sell Product, quote prices for Product, provide information regarding Product, or to market or sell Product to any distributors or purchasers of its choosing in export markets or in any countries or geographic areas in export markets; and

(o) Meet with Suppliers, Export Trade Intermediaries, or trade associations periodically to discuss matters specific to exporting Product (not related to price and supply arrangements between applicant and the individual suppliers) such as relevant facts concerning export markets (e.g. demand conditions, transportation costs and prices), or the possibility of joint marketing, selling or bidding arrangements in the export markets.

Definition

“Export Trade Intermediary” means a person who acts as distributor, sales representative, sales or marketing agent, or broker, or who performs similar functions including or arranging for the provision of Export Trade Facilitation Services.

“Supplier” means a person who produces, provides or sells a Product.

Terms and Conditions of Certificate

1. In engaging in Export Trade Activities and Methods of Operation, ACC shall not intentionally disclose, directly or indirectly, to any Supplier any information regarding its or any other Supplier's costs, production, capacity, inventories, domestic prices, domestic sales, domestic customers, or U.S. business plans, strategies, or methods, unless such information is already generally available to the trade or public.

2. ACC will comply with requests made by the Secretary of Commerce on behalf of the Secretary or the Attorney General for information or documents relevant to conduct under the Certificate. The Secretary of Commerce will request such information or documents when either the Attorney General or the Secretary of Commerce believes that the information or documents are required to determine that the Export Trade, Export Trade Activities and Methods of Operation of a person protected by this Certificate of Review continue to comply with the standards of section 303(a) of the Act.

A copy of this certificate will be kept in the International Trade Administration's Freedom of Information Records Inspection Facility Room 4102, U.S. Department of Commerce, 14th Street and Constitution Avenue, NW., Washington, DC 20230.

Dated: November 19, 2003.
Jeffrey C. Anspacher,
Director, Office of Export Trading, Company Affairs.

[FR Doc. 03-29563 Filed 11-25-03; 8:45 am]

BILLING CODE 3510-DR-P